DEPARTMENT OF JUSTICE

Bureau of Alcohol, Tobacco, Firearms and Explosives

[OMB Number 1140-0058]

Agency Information Collection Activities; Proposed eCollection eComments Requested; Revision of a Currently Approved Collection; Investigator Integrity Questionnaire—ATF Form 8620.7

AGENCY: Bureau of Alcohol, Tobacco, Firearms and Explosives, Department of Justice.

ACTION: 60-Day notice.

SUMMARY: The Department of Justice (DOJ), Bureau of Alcohol, Tobacco, Firearms and Explosives (ATF), will submit the following information collection request to the Office of Management and Budget (OMB) for review and approval in accordance with the Paperwork Reduction Act of 1995. The proposed collection OMB 1140-0058 (Investigator Integrity Questionnaire—ATF Form 8620.7) is being renamed Investigator Quality Survey. Additional fields were included in the form to improve user experience when providing feedback about an investigator's conduct during a background investigation interview. The proposed information collection (IC) is also being published in the Federal Register to obtain comments from the public and affected agencies.

DATES: Comments are encouraged and will be accepted for 60 days until September 14, 2020.

FOR FURTHER INFORMATION CONTACT: If you have additional comments, regarding the estimated public burden or associated response time, suggestions, or need a copy of the proposed information collection instrument with instructions, or additional information, please contact: Matthew Varisco, Chief, Personnel Security Division, either by mail at 99 New York Avenue NE, Washington, DC 20226, by email at Matthew.Varisco@atf.gov, or by telephone at 202-648-9260.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Revision of a currently approved collection.

2. The Title of the Form/Collection: Investigator Integrity Questionnaire.

3. The agency form number, if any, and the applicable component of the Department sponsoring the collection:

Form number (if applicable): ATF Form 8620.7.

Component: Bureau of Alcohol, Tobacco, Firearms and Explosives, U.S. Department of Justice.

4. Affected public who will be asked or required to respond, as well as a brief abstract:

Primary: Individuals or households.

Other (if applicable): None.

Abstract: Persons interviewed by ATF contract investigators are randomly selected to complete the Investigator Integrity Questionnaire—ATF Form 8620.7, which measures the effectiveness, efficiency and professionalism of investigators while conducting interviews for a Federal background investigation. Individuals may voluntarily participate in this survey by providing an email address during their interview.

5. An estimate of the total number of respondents and the amount of time estimated for an average respondent to respond: An estimated 2,500 respondents will utilize the survey annually, and it will take each respondent approximately 5 minutes to complete their response.

6. An estimate of the total public burden (in hours) associated with the collection: The estimated annual public burden associated with this collection is 208 hours, which is equal to 2,500 (# of respondents) * .083 (5 minutes or the time taken to complete each response).

If additional information is required contact: Melody Braswell, Department Clearance Officer, United States Department of Justice, Justice Management Division, Policy and Planning Staff, Two Constitution Square, 145 N Street NE, 3E.405A, Washington, DC 20530.

Dated: July 10, 2020.
Melody Braswell,
Department Clearance Officer for PRA, U.S. Department of Justice.

[FR Doc. 2020-15311 Filed 7-15-20; 8:45 am]

BILLING CODE 4410-10-P